DEPARTMENT OF COMMERCE

National Oceanic and Atmospheric Administration

[RTID 0648-XG573]

Endangered and Threatened Species; Recovery Plans

AGENCY: National Marine Fisheries Service (NMFS), National Oceanic and Atmospheric Administration, Commerce.

ACTION: Notice of availability.

SUMMARY: NMFS announces the adoption of a Final Endangered Species Act (ESA) recovery plan for the threatened Puget Sound steelhead Distinct Population Segment (DPS) (herein referred to as steelhead). The Final Recovery Plan for this species (Final Recovery Plan) is now available.

ADDRESSES: Electronic copies of the Final Recovery Plan are available online at: https://www.fisheries.noaa.gov/resource/document/esa-recovery-plan-puget-sound-steelhead-distinct-population-segment-oncorhynchus

FOR FURTHER INFORMATION CONTACT: David Price, (360) 753-9598, david.price@noaa.gov; or Elizabeth Babcock, (206) 526-4505, elizabeth.babcock@noaa.gov.

SUPPLEMENTARY INFORMATION:

Background

The Endangered Species Act of 1973 (ESA), as amended (16 U.S.C. 1531 et seq.) requires that we develop and implement recovery plans for the conservation and survival of threatened and endangered species under our jurisdiction, unless it is determined that such plans would not result in the conservation of the species. The Puget Sound steelhead (Oncorhynchus mykiss) DPS was listed as a threatened species under the ESA in May 11, 2007 (72 FR 26722). We published a Notice of Availability of the Draft Recovery Plan in the Federal Register on December 13, 2018 (83 FR 64110) to obtain comments on the Draft Plan. The public comment period for this action was set to end on February 11, 2019; however, we extended the public comment period through March 28, 2019, to provide additional opportunity for public comment (84 FR 1707). We received extensive comments on the Draft Plan, summarized the comments and identified comments that prompted revisions for the Final Recovery Plan. We revised the Draft Plan based on comments received, and this final version now constitutes the Recovery Plan for the Puget Sound steelhead DPS.

The Final Plan

We are responsible for developing and implementing recovery plans for Pacific salmon and steelhead listed under the ESA. Section 4(f)(1) of the ESA requires that recovery plans include, to the extent practicable: (1) Objective, measurable criteria which, when met, would result in a determination that the species is no longer threatened or endangered; (2) site-specific management actions necessary to achieve the plan's goals; and (3) estimates of the time required and costs to achieve the recovery plan's goal. Our goal is to restore Puget Sound steelhead to the point where they are viable and no longer need the protections of the ESA. The ESA requires the development of recovery plans for each listed species unless such a plan would not promote its recovery.

We believe it is essential to have local support of recovery plans by those whose activities directly affect the listed species and whose continued commitment and leadership will be needed to implement the necessary recovery actions. We therefore support and participate in collaborative efforts to develop recovery plans that involve state, tribal, and federal entities, local communities, and other stakeholders. For this Final Recovery Plan for threatened Puget Sound steelhead, we worked collaboratively with local, state, tribal, and federal partners to produce a recovery plan that satisfies the ESA requirements. We have determined that this ESA recovery plan for Puget Sound steelhead meets the statutory requirements for a recovery plan and are adopting it as the Final Recovery Plan for this threatened species. This notice provides a notice of availability of the Plan.

The geographic area covered by the Final Recovery Plan is the Puget Sound basin, from the Elwha River (inclusive) eastward, including rivers in Hood Canal, South Sound, and North Sound, including steelhead from six artificial propagation programs: the Green River Natural Program; White River Winter Steelhead Supplementation Program; Hood Canal Steelhead Supplementation Off-station Projects in the Dewatto, Skokomish, and Duckabush Rivers; and the Lower Elwha Fish Hatchery Wild Steelhead Recovery Program.

For the purpose of recovery planning for the ESA-listed species of Pacific salmon and steelhead in Idaho, Oregon, and Washington, NMFS designated five geographically based “recovery domains.” The Puget Sound Steelhead DPS spawning range is in the Puget Sound domain. For each domain, NMFS appointed a team of scientists, nominated for their geographic and species expertise, to provide a solid scientific foundation for recovery plans. The Puget Sound Steelhead Technical Recovery Team included biologists from NMFS, other federal agencies, state agencies, tribes, and academic institutions.

We also collaborated with the state of Washington, tribes, other federal agencies, local governments, representatives of industry and environmental groups, other stakeholders, and the public to develop the Plan. The Final Recovery Plan for the Puget Sound steelhead DPS was developed by NMFS in cooperation with a recovery team made up of experts from the Washington Department of Fish and Wildlife, Northwest Indian Fisheries Commission, Nooksack Tribe, Seattle Light, Long Live the Kings, Puget Sound Partnership, and NMFS' Northwest Fisheries Science Center. These groups provided vital input during the planning process, and their continued involvement during recovery plan implementation is critical to the success of our joint efforts to recover Puget Sound steelhead.

Contents of the Plan

The Final Recovery Plan contains biological background and contextual information that includes description of the DPS, the planning area, and the context of the plan's development. It presents relevant information on DPS structure and guidelines for assessing salmonid population and DPS status. It provides background on the natural history of steelhead, population status, and threats to their sustainability.

The Puget Sound steelhead DPS consists of three Major Population Groups (MPGs) and 32 Demographically Independent Populations (DIPs). Major risk factors facing Puget Sound steelhead are widespread declines in abundance and productivity for most natural steelhead populations in the DPS, including those in Skagit and Snohomish Rivers, previously considered strongholds for steelhead in the DPS; the low abundance of several summer-run populations; and the sharply diminishing abundance of some steelhead populations, especially in south Puget Sound, Hood Canal, and the Strait of Juan de Fuca. Continued releases of out-of-DPS hatchery fish from Skamania-derived summer run were a major concern for diversity in the DPS.

The most recent status assessment of the DPS found “[t]he biological risks faced by the Puget Sound steelhead DPS have not substantively changed since the listing in 2007 (NMFS 2016; 81 FR 33468). The abundance of natural spawners is very low and productivity remains predominately negative. Degradation and fragmentation of freshwater habitat, with consequential effects on connectivity, remain the primary limiting factors and threats facing the Puget Sound steelhead DPS. The DPS is at very low viability, as are all three of its constituent MPGs, and many of its 32 DIPs.

The Final Recovery Plan presents NMFS' recovery goals and the viability and listing factor criteria for making a delisting decision. The viability criteria for the Puget Sound steelhead DPS are designed to improve the DPS so it “has a negligible risk of extinction due to threats from demographic variation, local environmental variation, and genetic diversity changes over a 100-year time frame” based on the status of the MPGs and DIPs, and supporting ecosystems (McElhany et al., 2000). A self-sustaining viable population has a negligible risk of extinction due to reasonably foreseeable changes in circumstances affecting its abundance, productivity, spatial structure, and diversity characteristics and achieves these characteristics without dependence upon artificial propagation. The viability criteria for Puget Sound steelhead require that all three MPGs be viable because the three MPGs differ substantially in key biological and habitat characteristics that contribute in distinct ways to the overall viability, diversity, and spatial structure of the DPS.

The Final Recovery Plan lays out a recovery strategy to address the potential threats based on the best available science and includes goals that incorporate objective, measurable criteria which, when met, would result in a determination that the species be removed from the list. The Final Recovery Plan is not regulatory, but presents guidance for use by agencies and interested parties to assist in the recovery of steelhead. The Final Recovery Plan identifies substantive actions needed to achieve recovery by addressing the threats to the species. The strategy for recovery includes a linkage between management actions and an active research and monitoring program intended to fill data gaps and assess effectiveness. The Final Recovery Plan incorporates an adaptive management framework by which management actions and other elements will evolve and adapt as we gain information through research and monitoring. The Final Recovery Plan references many of the significant efforts already underway to allow steelhead in the Puget Sound to access a diversity of high quality habitats that have been lost or degraded due to human land use.

The Final Recovery Plan also describes specific information on the following: Current status of Puget Sound steelhead; pressures (limiting factors) and threats throughout the life cycle that have contributed to the species decline; recovery strategies to address the threats based on the best available science; site-specific actions with timelines; and an adaptive management framework for focusing needed research and evaluations and revising our recovery strategies and actions. The Final Recovery Plan also summarizes time and costs required to implement recovery actions.

How NMFS and Others Expect To Use the Plan

With this Final Recovery Plan, we commit to implementing the actions in the plan for which we have authority and funding; encourage other federal, state and local agencies and tribal governments to implement recovery actions for which they have responsibility, authority, and funding; and work cooperatively with the public and local stakeholders on implementation of other actions. We expect the recovery plan to guide us and other federal agencies in evaluating federal actions under ESA section 7, as well as in implementing other provisions of the ESA and other statutes. For example, the plan will provide greater biological context for evaluating the effects that a proposed action may have on a species by providing delisting criteria, information on priority areas for addressing specific limiting factors, and information on how the DPS can tolerate varying levels of risk.

When we are considering a species for delisting, the agency will examine whether the section 4(a)(1) listing factors have been addressed. To assist in this examination, we will use the delisting criteria described in Chapter 4 of the Plan, which include both viability criteria and listing factor criteria addressing each of the ESA section 4(a)(1) listing factors, as well as any other relevant data and policy considerations.

Conclusion

NMFS has reviewed the Plan for compliance with the requirements of the ESA section 4(f), determined that it does incorporate the required elements and is therefore adopting it as the Final Recovery Plan for the Puget Sound steelhead DPS.

Literature Cited

The complete citations for the references used in this document can be obtained by contacting NMFS (See ADDRESSES and FOR FURTHER INFORMATION CONTACT).

Authority: 16 U.S.C. 1531 et seq.

Dated: December 20, 2019.
Angela Somma,
Chief, Endangered Species Conservation Division, Office of Protected Resources, National Marine Fisheries Service.

[FR Doc. 2019-27913 Filed 12-26-19; 8:45 am]

BILLING CODE 3510-22-P